DEPARTMENT OF THE INTERIOR

Bureau of Land Management

[NM-952-00-1420-BJ]

Notice of Filing of Plat of Survey; New Mexico

AGENCY: Bureau of Land Management, Interior.

ACTION: Notice.

SUMMARY: The plat of survey described below was officially filed in the New Mexico State Office, Bureau of Land Management, Santa Fe, New Mexico, on February 28, 2000.

New Mexico Principal Meridian, New Mexico

Cieneguilla Grant, approved February 10, 2000, for Group 970 NM.

A person or party who wishes to protest against this survey must file a written protest with the NM State Director, Bureau of Land Management, stating that they wish to protest.

A statement of reasons for a protest may be filed with the notice of protest to the State Director, or the statement of reasons must be filed with the State Director within thirty (30) days after the protest is filed. The above-listed plat represents original surveys.

This plat will be available for inspection in the New Mexico State Office, Bureau of Land Management, P.O. Box 27115, Santa Fe, NM 87502-0115. Copies may be obtained from this office upon payment of $1.10 per sheet.

Dated: March 14, 2000.
James D. Claflin,
Acting Chief Cadastral, Surveyor for New Mexico.

[FR Doc. 00-7215 Filed 3-22-00; 8:45 am]

BILLING CODE 4310-FB-M